DEPARTMENT OF ENERGY

Federal Energy Regulatory Commission

Combined Notice of Filings #1

March 20, 2007.

Take notice that the Commission received the following electric corporate filings:

Docket Numbers: EC07-67-000.

Applicants: EBG Holdings LLC; Boston Generating LLC; Mystic I, LLC; Mystic Develop.m.ent, LLC; Fore River Develop.m.ent, LLC; K Road BG Management LLC; Astoria Generating Company Holdings, LLC; Astoria Generating Company, LP; Astoria Generating Company Acquisitions; Astoria Generating Company GP, LLC; U.S. Power Generating Company, LLC; New Astoria Generating Company Holdings; EBG Merger LLC; Astoria Merger LLC.

Description: EBG Holdings, LLC et al submit a joint application seeking approval of disposition of jurisdictional facilities and on 3/25/07 submit a verification of application.

Filed Date: 03/13/2007; 03/15/2007.

Accession Number: 20070319-0125; 20070319-0042.

Comment Date: 5 p.m. Eastern Time on Tuesday, April 03, 2007.

Take notice that the Commission received the following electric rate filings:

Docket Numbers: ER01-642-007.

Applicants: Cottonwood Energy Company LP.

Description: Cottonwood Energy Company, LP submits revisions to its market based FERC Electric Tariff, Original Volume 1 pursuant to FERC's 2/16/06 Order.

Filed Date: 03/16/2007.

Accession Number: 20070320-0051.

Comment Date: 5 p.m. Eastern Time on Friday, April 06, 2007.

Docket Numbers: ER01-642-008; ER01-1335-009; ER01-1011-012.

Applicants: CottonWood Energy Company LP; Magnolia Energy LP; Redbud Energy LP.

Description: Cottonwood Energy Company, LP and Magnolia Energy, LP et al submits their triennial market power update in support of their continued authorization to sell energy and capacity at market based rates.

Filed Date: 03/16/2007.

Accession Number: 20070320-0055.

Comment Date: 5 p.m. Eastern Time on Friday, April 06, 2007.

Docket Numbers: ER01-1011-011.

Applicants: Redbud Energy LP.

Description: Redbud Energy LP submits revisions to its market-based Tariff, Original Sheet 1 et al to FERC Electric Tariff, First Revised Volume 1.

Filed Date: 03/16/2007.

Accession Number: 20070320-0050.

Comment Date: 5 p.m. Eastern Time on Friday, April 06, 2007.

Docket Numbers: ER01-1335-010.

Applicants: Magnolia Energy LP.

Description: Magnolia Energy, LP submits revisions to its market-based FERC Electric Tariff, Original Volume 1 pursuant to FERC's 2/16/06 Order.

Filed Date: 03/16/2007.

Accession Number: 20070320-0052.

Comment Date: 5 p.m. Eastern Time on Friday, April 06, 2007.

Docket Numbers: ER03-985-002.

Applicants: El Cap II, LLC.

Description: El Cap II, LLC submits its revised Market-Based Tariff to comply w/Commission Order issued 1/11/07.

Filed Date: 03/13/2007.

Accession Number: 20070319-0033.

Comment Date: 5 p.m. Eastern Time on Tuesday, April 03, 2007.

Docket Numbers: ER05-273-004.

Applicants: Midwest Independent Transmission System Operator, Inc.

Description: Midwest Independent Transmission System Operator, Inc submits proposed revisions to Section 22.2 of its OAT&EM Tariff pursuant to Commission's 2/14/07 order.

Filed Date: 03/16/2007.

Accession Number: 20070320-0049.

Comment Date: 5 p.m. Eastern Time on Friday, April 06, 2007.

Docket Numbers: ER07-476-001.

Applicants: ISO New England Inc.; New England Power Pool Participants Committee.

Description: ISO New England, Inc submits correction to its 1/29/07 filing which included a paragraph that was not completely accurate in its Description of the method of determining Incremental ARR Awards.

Filed Date: 03/15/2007.

Accession Number: 20070319-0036.

Comment Date: 5 p.m. Eastern Time on Thursday, April 05, 2007.

Docket Numbers: ER07-512-001.

Applicants: Lockhart Power Company.

Description: Lockhart Power Company submits a supplement to its 2/2/07 request to revise its FERC Electric Tariff, Original Volume 1 pursuant to Order 614 and Part 35 of the Commission's regulations.

Filed Date: 03/16/2007.

Accession Number: 20070320-0053.

Comment Date: 5 p.m. Eastern Time on Monday, March 26, 2007.

Docket Numbers: ER07-632-000.

Applicants: PJM Interconnection, L.L.C.

Description: PJM Interconnection LLC on behalf of Neptune Regional Transmission System LLC submits a new Schedule 14 to PJM's Open Access Transmission Tariff.

Filed Date: 03/16/2007.

Accession Number: 20070320-0054.

Comment Date: 5 p.m. Eastern Time on Friday, April 06, 2007.

Docket Numbers: ER07-633-000.

Applicants: New York Independent System Operator, Inc.

Description: New York Independent System Operator, Inc submits proposed revisions to its Open Access Transmission Tariff and Market Administration Control Area Services Tariff.

Filed Date: 03/15/2007.

Accession Number: 20070320-0048.

Comment Date: 5 p.m. Eastern Time on Friday, March 30, 2007.

Docket Numbers: ER07-634-000.

Applicants: American Electric Power Service Corp.

Description: American Electric Power Service Corporation on behalf of AEP Eastern Operating Companies submits its Third Amended and Restated PJM Services and Cost Allocation Agreement etc.

Filed Date: 03/16/2007.

Accession Number: 20070320-0047.

Comment Date: 5 p.m. Eastern Time on Friday, April 06, 2007.

Docket Numbers: ER07-635-000.

Applicants: Western Systems Power Pool Inc.

Description: Western Systems Power Pool Inc informs FERC that it has changed its name to WSPP Inc and as a result of the change it has succeeded to the pro forma open access transmission tariff et al.

Filed Date: 03/16/2007.

Accession Number: 20070320-0056.

Comment Date: 5 p.m. Eastern Time on Friday, April 06, 2007.

Take notice that the Commission received the following electric securities filings:

Docket Numbers: ES07-24-001.

Applicants: Trans-Allegheny Interstate Line Company.

Description: Trans-Allegheny Interstate Line Company submits a Supplement to its filing made 2/22/07 pursuant to Section 204 of the Federal Power Act and Part 34 of FERC's Regulations.

Filed Date: 03/15/2007.

Accession Number: 20070319-0032.

Comment Date: 5 p.m. Eastern Time on Monday, March 26, 2007.

Any person desiring to intervene or to protest in any of the above proceedings must file in accordance with Rules 211 and 214 of the Commission's Rules of Practice and Procedure (18 CFR 385.211 and 385.214) on or before 5 p.m. Eastern time on the specified Comment Date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Philis J. Posey,
Acting Secretary.

[FR Doc. E7-5461 Filed 3-23-07; 8:45 am]

BILLING CODE 6717-01-P